ENVIRONMENTAL PROTECTION AGENCY

[EPA-HQ-OPPT-2009-0477; FRL-8856-5]

Endocrine Disruptor Screening Program; Second List of Chemicals for Tier 1 Screening; Extension of Comment Period

AGENCY: Environmental Protection Agency (EPA).

ACTION: Notice; extension of comment period.

SUMMARY: EPA published a notice in the Federal Register issue of November 17, 2010, concerning the Endocrine Disruptor Screening Program's (EDSP) second list of chemicals for Tier 1 screening. This document extends the comment period from December 17, 2010, to January 18, 2011.

DATES: Comments, identified by docket identification (ID) number EPA-HQ-OPPT-2009-0477, must be received on or before January 18, 2011.

ADDRESSES: Follow the detailed instructions as provided under ADDRESSES in the Federal Register notice of November 17, 2010.

FOR FURTHER INFORMATION CONTACT: For technical information contact: William Wooge, Office of Science Coordination and Policy, Environmental Protection Agency, 1200 Pennsylvania Ave., NW., Washington, DC 20460-0001; telephone number: (202) 564-8476; e-mail address: wooge.william@epa.gov.

For general information contact: The TSCA-Hotline, ABVI-Goodwill, 422 South Clinton Ave., Rochester, NY 14620; telephone number: (202) 554-1404; e-mail address: TSCA-Hotline@epa.gov.

SUPPLEMENTARY INFORMATION: This document extends the public comment period established in the Federal Register notice of November 17, 2010 (75 FR 70248) (FRL-8848-7). In that notice, EPA announced the second list of chemicals and substances for which EPA intends to issue test orders under EDSP and requested comment. EPA is hereby extending the comment period, which was set to end on December 17, 2010, to January 18, 2011.

To submit comments, or access the docket, please follow the detailed instructions as provided under ADDRESSES in the Federal Register notice of November 17, 2010. If you have questions, consult the technical person listed under FOR FURTHER INFORMATION CONTACT.

List of Subjects

Environmental protection, Chemicals, Drinking water, Endocrine disruptors, Pesticides and pests.

Dated: December 8, 2010.
Stephen A. Owens,
Assistant Administrator, Office of Chemical Safety and Pollution Prevention.

[FR Doc. 2010-31336 Filed 12-13-10; 8:45 am]

BILLING CODE 6560-50-P